DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioners' arguments in favor of relief.

National Railway Historical Society

Freemont & Elkhorn Valley Railroad

[Docket Number FRA-2000-8367]

The Eastern Nebraska Chapter of the National Railway Historical Society (NRHS), which operates the Freemont & Elkhorn Valley Railroad (FEVR), has petitioned for a permanent waiver of compliance for two former C&NW Pullman sleeper cars, one former Burlington Northern RPO, one former Burlington Northern caboose, one former C&NW SW1200, one Davenport center cab, one Whitcomb/Baldwin S-4300, and one GE center cab from the requirements of Safety Glazing Standards, 49 CFR Part 223, which requires certified glazing. The NRHS, which is located in Fremont, Nebraska, states that they operate in a rural farming area with a low incidence of vandalism.

Interested parties are invited to participate in these proceedings by submitting written views, data, comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2000-8367) and must be submitted in triplicate to: Docket Clerk, DOT Central Docket Management Facility, Room P1-401, 400 Seventh Street, SW., Washington, DC 20590-0001. Communications received within 45 days of the date will be considered as for as practical. All written communications concerning these proceedings are available for examination during regular business hours (9:00 a.m.-5:00 p.m.) at: DOT Central Docket Management Facility, Room P1-401 (Plaza Level, 400 Seventh Street, SW., Washington, DC 20590-0001. All documents in the public docket are also available for inspection and copying on the internet at the facility's Web site at http://dms.dot.gov.

Issued in Washington, D.C., on February 22, 2001.
Grady Cothen, Jr.,
Deputy Associate Administrator for Safety Standards and Program Development.

[FR Doc. 01-5407 Filed 3-5-01; 8:45 am]

BILLING CODE 4910-06-P